DEPARTMENT OF ENERGY

Federal Energy Regulatory Commission

[Project No. 1904-078; Project No. 1855-050; Project No. 1892-030]

Great River Hydro, LLC; Notice of Reasonable Period of Time for Water Quality Certification Application

On April 19, 2024, the Vermont Agency of Natural Resources (Vermont ANR) filed with the Federal Energy Regulatory Commission (Commission) notice that it received complete requests for Clean Water Act section 401(a)(1) water quality certifications from Great River Hydro, LLC in conjunction with the above captioned projects, on April 18, 2024. Pursuant to section 5.23(b) of the Commission's regulations,¹ we hereby notify Vermont ANR of the following:

¹ 18 CFR 5.23(b).

Date of Receipt of the Certification Request: April 18, 2024.

Reasonable Period of Time to Act on the Certification Request: One year, April 18, 2025.

If Vermont ANR fails or refuses to act on the water quality certification requests on or before the above date, then the certifying authority is deemed waived pursuant to section 401(a)(1) of the Clean Water Act, 33 U.S.C. 1341(a)(1).

Dated: April 30, 2024.
Debbie-Anne A. Reese,
Acting Secretary.

[FR Doc. 2024-09831 Filed 5-6-24; 8:45 am]

BILLING CODE 6717-01-P